DEPARTMENT OF STATE

[Public Notice: 9761]

Industry Advisory Group: Notice of Open Meeting

The Industry Advisory Group (IAG) of the Bureau of Overseas Buildings Operations (OBO) will meet on Thursday, November 3 from 2:00 p.m. until 4:00 p.m. Eastern Daylight Time. The meeting is open to the public and will be held in the Loy Henderson Conference Room of the U.S. Department of State, located at 2201 C Street NW., (entrance on 23rd Street) Washington, DC For logistical and security reasons, the public must enter and exit the building using only the 23rd Street entrance.

This committee serves the U.S. Government in a solely advisory capacity concerning industry and academia's latest concepts, methods, best practices, innovations, and ideas related to OBO's mission to provide safe, secure, and functional facilities that represent the U.S. Government to the host nation and support our staff in the achievement of U.S. foreign policy objectives. These facilities should represent American values and the best in American architecture, engineering, technology, sustainability, art, culture, and construction execution.

The majority of the meeting will be devoted to discussions between the Department's senior management and IAG representatives with respect to industry and academia's latest concepts, methods, best practices, innovations and ideas related to property management that are applicable to OBO's vital mission. Reasonable time will be provided for members of the public to provide comment.

Admittance to the State Department building will be by means of a pre-arranged clearance list. To register for the meeting, please visit the OBO Web site at http://overseasbuildings.state.gov/ for the registration page by Friday, October 21. In order to register, you must provide the following information: First and last name, company/firm name, date of birth, country of citizenship, and the number and issuing country/state associated with a valid government-issued ID (i.e., U.S. Government ID, U.S. Military ID, passport, or driver's license). Requests for reasonable accommodation should also be sent to IAGR@state.gov by October 21. Requests made after that date will be considered, but may not be able to be fulfilled. The public may attend this meeting as seating capacity allows.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database.

Please see the Security Records System of Records Notice (State-36) at https://foia.state.gov/_docs/SORN/State-36.pdf for additional information.

Please contact IAGR@state.gov with any questions.

Dated: October 3, 2016.
Lydia Muniz,
Director, U.S. Department of State, Bureau of Overseas Buildings Operations.

[FR Doc. 2016-25030 Filed 10-14-16; 8:45 am]

BILLING CODE 4710-51-P